DEPARTMENT OF TRANSPORTATION

Pipeline and Hazardous Materials Safety Administration

49 CFR Part 195

Transportation of Hazardous Liquids by Pipeline

CFR Correction

In Title 49 of the Code of Federal Regulations, Parts 178 to 199, revised as of October 1, 2012, on page 551, in § 195.2, the words “related parameters.” are added at the end of the definition of Alarm.

[FR Doc. 2013-18546 Filed 7-30-13; 8:45 am]

BILLING CODE 1505-01-D